ENVIRONMENTAL PROTECTION AGENCY

[FRL-11774-01-R6]

Clean Air Act Operating Permit Program; Petition for Objection to State Operating Permit for Intercontinental Terminals Company LLC, Harris County, Texas

AGENCY: Environmental Protection Agency (EPA).

ACTION: Notice of final order on petition.

SUMMARY: The Environmental Protection Agency (EPA) Administrator signed an Order dated February 07, 2024, granting in part and denying in part a petition dated September 6, 2023, from Air Alliance Houston, Sierra Club, Environment Texas, and Environmental Integrity Project (the Petitioners). The petition requested that the EPA object to a Clean Air Act (CAA) title V operating permit issued by the Texas Commission on Environmental Quality (TCEQ) to Intercontinental Terminals Company LLC, for its Pasadena Terminal located in Harris County, Texas.

FOR FURTHER INFORMATION CONTACT: Jonathan Ehrhart, EPA Region 6 Office, Air Permits Section, (214) 665-2295, ehrhart.jonathan@epa.gov. The final order and petition are available electronically at: https://www.epa.gov/title-v-operating-permits/title-v-petition-database.

SUPPLEMENTARY INFORMATION: The EPA received a petition from Air Alliance Houston, Sierra Club, Environment Texas, and Environmental Integrity Project dated September 6, 2023, requesting that the EPA object to the issuance of operating permit No. O3785, issued by TCEQ to Intercontinental Terminals Company, LLC for its Pasadena Terminal located in Harris County, Texas. On February 07, 2024, the EPA Administrator issued an order granting in part and denying in part the petition. The order itself explains the basis for the EPA's decision.

Sections 307(b) and 505(b)(2) of the CAA provide that a petitioner may request judicial review of those portions of an order that deny issues in a petition. Any petition for review shall be filed in the United States Court of Appeals for the appropriate circuit no later than May 6, 2024.

Dated: February 26, 2024.
David Garcia,
Director, Air and Radiation Division, Region 6.

[FR Doc. 2024-04409 Filed 3-6-24; 8:45 am]

BILLING CODE 6560-50-P